DEPARTMENT OF TRANSPORTATION

Federal Aviation Administration

14 CFR Part 71

[Docket No. FAA-2006-26164; Airspace Docket No. 06-AAL-34]

Proposed Revocation of Class E Airspace; Adak, Atka, Cold Bay, Nelson Lagoon, Saint George Island, Sand Point, Shemya, St. Paul Island, and Unalaska, AK

AGENCY: Federal Aviation Administration (FAA), DOT.

ACTION: Notice of proposed rulemaking.

SUMMARY: This action proposes to revoke the Class E2 and E5 controlled airspace descriptions for Adak, Atka, Cold Bay, Nelson Lagoon, Saint George Island, Sand Point, Shemya, St. Paul Island, and Unalaska, AK. These locations lie within the boundaries of the Offshore Airspace Area Control 1234L. Since these airports lie within Control 1234L, the controlled airspace associated with these airports should be listed in the Control 1234L area description. A concurrent airspace action (docket #06-AAL-29) would incorporate this controlled airspace. There is one exception. The Class E2 surface area at Shemya, AK is no longer necessary and the docket #06-AAL-29 will not be carrying it forward. If both proposals are adopted there will be no change to controlled airspace, except for the revocation of the Shemya Class E surface area. The controlled airspace descriptions would be listed in paragraph 6007 of FAA Order 7400.9P, Airspace Designations and Reporting Points, Control 1234L.

DATES: Comments must be received on or before January 12, 2007.

ADDRESSES: Send comments on the proposal to the Docket Management System, U.S. Department of Transportation, Room Plaza 401, 400 Seventh Street, SW., Washington, DC 20590-0001. You must identify the docket number FAA-2006-26164/Airspace Docket No. 06-AAL-34, at the beginning of your comments. You may also submit comments on the Internet at http://dms.dot.gov. You may review the public docket containing the proposal, any comments received, and any final disposition in person in the Dockets Office between 9 a.m. and 5 p.m., Monday through Friday, except Federal holidays. The Docket Office (telephone 1-800-647-5527) is on the plaza level of the Department of Transportation NASSIF Building at the above address.

An informal docket may also be examined during normal business hours at the office of the Manager, Safety, Alaska Flight Service Operations, Federal Aviation Administration, 222 West 7th Avenue, Box 14, Anchorage, AK 99513-7587.

FOR FURTHER INFORMATION CONTACT: Gary Rolf, Federal Aviation Administration, 222 West 7th Avenue, Box 14, Anchorage, AK 99513-7587; telephone number (907) 271-5898; fax: (907) 271-2850; e-mail: gary.ctr.rolf@faa.gov. Internet address: http://www.alaska.faa.gov/at.

SUPPLEMENTARY INFORMATION:

Comments Invited

Interested parties are invited to participate in this proposed rulemaking by submitting such written data, views, or arguments as they may desire. Comments that provide the factual basis supporting the views and suggestions presented are particularly helpful in developing reasoned regulatory decisions on the proposal. Comments are specifically invited on the overall regulatory, aeronautical, economic, environmental, and energy-related aspects of the proposal. Communications should identify both docket numbers and be submitted in triplicate to the address listed above. Commenters wishing the FAA to acknowledge receipt of their comments on this notice must submit with those comments a self-addressed, stamped postcard on which the following statement is made: “Comments to Docket No. FAA-2006-26164/Airspace Docket No. 06-AAL-34.” The postcard will be date/time stamped and returned to the commenter.

All communications received on or before the specified closing date for comments will be considered before taking action on the proposed rule. The proposal contained in this notice may be changed in light of comments received. All comments submitted will be available for examination in the public docket both before and after the closing date for comments. A report summarizing each substantive public contact with FAA personnel concerned with this rulemaking will be filed in the docket.

Availability of Notice of Proposed Rulemaking's (NPRM's)

An electronic copy of this document may be downloaded through the Internet at http://dms.dot.gov. Recently published rulemaking documents can also be accessed through the FAA's Web page at http://www.faa.gov or the Superintendent of Document's Web page at http://www.access.gpo.gov/nara.

Additionally, any person may obtain a copy of this notice by submitting a request to the Federal Aviation Administration, Office of Air Traffic Airspace Management, ATA-400, 800 Independence Avenue, SW., Washington, DC 20591 or by calling (202) 267-8783. Communications must identify both docket numbers for this notice. Persons interested in being placed on a mailing list for future NPRM's should contact the FAA's Office of Rulemaking, (202) 267-9677, to request a copy of Advisory Circular No. 11-2A, Notice of Proposed Rulemaking Distribution System, which describes the application procedure.

The Proposal

The FAA is considering an amendment to the Code of Federal Regulations (14 CFR Part 71), which would remove the Class E airspace descriptions in FAA Order 7400.9P, paragraph 6002 and 6005 for Adak, Atka, Cold Bay, Nelson Lagoon, Saint George Island, Sand Point, Shemya, St. Paul Island, and Unalaska, AK. This proposal is being handled concurrently with a separate airspace action (06-AAL-29), that would move the controlled airspace descriptions for the above airports to the correct location in FAA Order 7400.9P, within the Control 1234L Offshore Airspace description. The intended effect of this proposal is to remove the controlled airspace descriptions incorrectly listed within the Federal Aviation Regulations by reference in FAA Order 7400.9P, paragraph 6002 and 6005. The concurrent action, docket number 06-AAL-29, will incorporate these controlled airspace descriptions in FAA Order 7400.9P, paragraph 6007, Control 1234L.

The FAA has determined that this proposed regulation only involves an established body of technical regulations for which frequent and routine amendments are necessary to keep them operationally current. It, therefore —(1) is not a “significant regulatory action” under Executive Order 12866; (2) is not a “significant rule” under DOT Regulatory Policies and Procedures (44 FR 11034; February 26, 1979); and (3) does not warrant preparation of a regulatory evaluation as the anticipated impact is so minimal. Since this is a routine matter that will only affect air traffic procedures and air navigation, it is certified that this rule, when promulgated, will not have a significant economic impact on a substantial number of small entities under the criteria of the Regulatory Flexibility Act.

The FAA's authority to issue rules regarding aviation safety is found in Title 49 of the United States Code. Subtitle 1, section 106 describes the authority of the FAA Administrator. Subtitle VII, Aviation Programs, describes in more detail the scope of the agency's authority.

This rulemaking is promulgated under the authority described in subtitle VII, part A, subpart 1, section 40103, Sovereignty and use of airspace. Under that section, the FAA is charged with prescribing regulations to ensure the safe and efficient use of the navigable airspace. This regulation is within the scope of that authority because it proposes changes to Class E airspace that remain sufficient in size to contain aircraft executing instrument procedures at the above listed airports and represents the FAA's continuing effort to safely and efficiently use the navigable airspace.

List of Subjects in 14 CFR Part 71

Airspace, Incorporation by reference, Navigation (air).

The Proposed Amendment

In consideration of the foregoing, the Federal Aviation Administration proposes to amend 14 CFR part 71 as follows:

PART 71—DESIGNATION OF CLASS A, CLASS B, CLASS C, CLASS D, AND CLASS E AIRSPACE AREAS; AIRWAYS; ROUTES; AND REPORTING POINTS

1. The authority citation for 14 CFR part 71 continues to read as follows:

Authority: 49 U.S.C. 106(g), 40103, 40113, 40120; E.O. 10854, 24 FR 9565, 3 CFR, 1959-1963 Comp., p. 389.

§ 71.1 [Amended]

2. The incorporation by reference in 14 CFR 71.1 of Federal Aviation Administration Order 7400.9P, Airspace Designations and Reporting Points, dated September 1, 2006, and effective September 15, 2006, is to be amended as follows:

* * * * *

Paragraph 6002 Class E Airspace Designated as Surface Areas.

* * * * *

AAL AK E2 Shemya, AK [Revoked]

* * * * *

AAL AK E2 Cold Bay, AK [Revoked]

* * * * *

Paragraph 6005 Class E Airspace Areas Extending Upward from 700 Feet or More Above the Surface of the Earth.

* * * * *

AAL AK E5 Adak, AK [Revoked]

* * * * *

AAL AK E5 Atka, AK [Revoked]

* * * * *

AAL AK E5 Cold Bay, AK [Revoked]

* * * * *

AAL AK E5 Nelson Lagoon, AK [Revoked]

* * * * *

AAL AK E5 Saint George Island, AK [Revoked]

* * * * *

AAL AK E5 Sand Point, AK [Revoked]

* * * * *

AAL AK E5 Shemya, AK [Revoked]

* * * * *

AAL AK E5 St. Paul Island, AK [Revoked]

* * * * *

AAL AK E5 Unalaska, AK [Revoked]

* * * * *

Issued in Anchorage, AK, on November 16, 2006.
Linda J. Couture,
Acting Director, Alaska Flight Service Information Office.

[FR Doc. E6-20183 Filed 11-27-06; 8:45 am]

BILLING CODE 4910-13-P